DEPARTMENT OF TRANSPORTATION

Federal Aviation Administration

Waiver of Aeronautical Land Use Assurance: Jim Kelly Field Airport (LXN), Lexington, Nebraska

AGENCY: Federal Aviation Administration (FAA), Transportation (DOT).

ACTION: Notice of Intent of Waiver with respect to land use change from aeronautical to non-aeronautical.

SUMMARY: The Federal Aviation Administration (FAA) is considering a proposal from the Lexington Airport Authority (sponsor), Lexington, NE, to release a 6.92 acres parcel of land from the federal obligation dedicating it to aeronautical use and to authorize this parcel to be used for revenue-producing, non-aeronautical purposes.

DATES: Comments must be received on or before September 21, 2020.

ADDRESSES: Comments on this application may be mailed or delivered to the FAA at the following address: Amy J. Walter, Airports Land Specialist, Federal Aviation Administration, Airports Division, ACE-620G, 901 Locust, Room 364, Kansas City, MO 64106.

In addition, one copy of any comments submitted to the FAA must be mailed or delivered to: Nathan Masten, Manager, Jim Kelly Field Airport, 1501 North Airport Road, Lexington, Nebraska 68850.

FOR FURTHER INFORMATION CONTACT: Amy J. Walter, Airports Land Specialist, Federal Aviation Administration, Airports Division, ACE-620G, 901 Locust, Room 364, Kansas City, MO 64106, (816) 329-2603, amy.walter@faa.gov.

SUPPLEMENTARY INFORMATION: The FAA invites public comment on the request to change one tract of land consisting of 6.92 acres of airport property at the Jim Kelly Field Airport (LXN) from aeronautical use to non-aeronautical use to produce income for the airport. The parcel of land is located along North Airport Road. This parcel will be leased for the construction and operation of a solar photovoltaic electricity generating facility.

No airport landside or airside facilities are presently located on this parcel, nor are airport developments contemplated in the future. There is no current use of the surface of the parcel. The parcel will serve as a revenue producing lot with the proposed change from aeronautical to non-aeronautical. The request submitted by the Sponsor meets the procedural requirements of the Federal Aviation Administration and the change to non-aeronautical status of the property does not and will not impact future aviation needs at the airport. The FAA may approve the request, in whole or in part, no sooner than thirty days after the publication of this Notice.

The following is a brief overview of the request:

The Jim Kelly Field Airport (LXN) is proposing the land use release of airport property containing 6.92 acres, more or less from aeronautical to non-aeronautical. The land use release is necessary to comply with Federal Aviation Administration Grant Assurances that do not allow federally acquired airport property to be used for non-aviation purposes. The rental of the subject property will result in the land at the Jim Kelly Field Airport (LXN) being changed from aeronautical to non-aeronautical use and release the lands from the conditions of the Airport Improvement Program Grant Agreement Grant Assurances. In accordance with 49 U.S.C. 47107(c)(2)(B)(i) and (iii), the airport will receive fair market rental value for the property. The annual income from lease payments will generate a long-term, revenue-producing stream that will further the Sponsor's obligation under FAA Grant Assurance number 24, to make the Jim Kelly Field Airport as financially self-sufficient as possible. The following is the legal description of the subject airport property at the Jim Kelly Field Airport (LXN):

A parcel of land in a portion of that part of Lot 1, Kelley Field Addition to the City of Lexington, Dawson County, Nebraska, lying within the Northeast Quarter of the Southeast Quarter (NE1/4-SE1/4) of Section 36, T10N, R22W, 6th P.M., more particularly described as follows: Commencing at the southeast corner of said Section 36, said corner being marked by a rebar with cap stamped LS 520 and from which a rebar with aluminum cap stamped LS 810 bears N89°23′25″ W a distance of 33.00 feet, thence N00°39′06″ W along the east line of said Section 36 a distance of 1411.89 feet to a point from which the east quarter corner of Section 36 bears N00°39′06″ W a distance of 1209.31 feet, said corner being marked by a 1” Iron Pipe, and together with said southeast corner of Section 36 will reflect the Basis of Bearings which is Geodetic North as determined by GPS observation; thence N90°00′00″ W a distance of 53.76 feet to the Point of Beginning of said parcel to be described; thence N90°00′00″ W a distance of 735.92 feet; thence N00°00′00″ E a distance of 409.61 feet; thence N90°00′00″ E a distance of 735.92 feet; thence S00°00′00″ E a distance of 409.61 feet to the Point of Beginning and there terminating. Said parcel of land encompasses 6.92 Acres.

Any person may inspect, by appointment, the request in person at the FAA office listed above under FOR FURTHER INFORMATION CONTACT. In addition, any person may, upon appointment and request, inspect the application, notice and other documents determined by the FAA to be related to the application in person at the Jim Kelly Field Airport.

Issued in Kansas City, MO on August 17, 2020.
James A. Johnson,
Director, FAA Central Region, Airports Division.

[FR Doc. 2020-18365 Filed 8-20-20; 8:45 am]

BILLING CODE 4910-13-P